DEPARTMENT OF TRANSPORTATION

Federal Aviation Administration

14 CFR Part 39

[Docket No. FAA-2022-0813; Project Identifier MCAI-2021-01316-A]

RIN 2120-AA64

Airworthiness Directives; Vulcanair S.p.A. Airplanes

AGENCY: Federal Aviation Administration (FAA), DOT.

ACTION: Notice of proposed rulemaking (NPRM).

SUMMARY: The FAA proposes to adopt a new airworthiness directive (AD) for all Vulcanair S.p.A. Model P.68, P.68B, P.68C, P.68C-TC, P.68 “Observer,” P.68TC “Observer,” P.68 “Observer 2,” and P.68R airplanes. This proposed AD results from mandatory continuing airworthiness information (MCAI) originated by an aviation authority of another country to identify and correct an unsafe condition on an aviation product. The MCAI identifies the unsafe condition as corrosion causing failure of the upper rudder hinge. This proposed AD would require repetitively inspecting the upper and lower rudder hinges for corrosion, cracking, or damage, and depending on the inspection results, taking corrective action. The FAA is proposing this AD to address the unsafe condition on these products.

DATES: The FAA must receive comments on this proposed AD by August 22, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Vulcanair S.p.A., Fulvio Oloferni, via Giovanni Pascoli, 7, 80026 Naples, Italy; phone: +39 081 5918 135; email: airworthiness@vulcanair.com; website: https://www.vulcanair.com. You may view this service information at the FAA, Airworthiness Products Section, Operational Safety Branch, 901 Locust, Kansas City, MO 64106. For information on the availability of this material at the FAA, call (817) 222-5110.

Examining the AD Docket

You may examine the AD docket at https://www.regulations.gov by searching for and locating Docket No. FAA-2022-0813; or in person at Docket Operations between 9 a.m. and 5 p.m., Monday through Friday, except Federal holidays. The AD docket contains this NPRM, the MCAI, any comments received, and other information. The street address for Docket Operations is listed above.

FOR FURTHER INFORMATION CONTACT: John DeLuca, Aviation Safety Engineer, General Aviation & Rotorcraft Section, International Validation Branch, FAA, 1600 Stewart Avenue, Suite 410, Westbury, NY 11590; phone: (516) 228-7369; email: john.p.deluca@faa.gov.

SUPPLEMENTARY INFORMATION:

Comments Invited

The FAA invites you to send any written relevant data, views, or arguments about this proposal. Send your comments to an address listed under the ADDRESSES section. Include “Docket No. FAA-2022-0813; Project Identifier MCAI-2021-01316-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this AD. Submissions containing CBI should be sent to John DeLuca, Aviation Safety Engineer, General Aviation & Rotorcraft Section, International Validation Branch, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2021-0267, dated November 24, 2021 (referred to after this as “the MCAI”), to address an unsafe condition on Vulcanair S.p.A. (Vulcanair) (formerly Partenavia Costruzioni Aeronautiche S.p.A.) Model P.68 “Victor,” P.68B “Victor,” P.68R “Victor,” P.68C, P.68C-TC, P.68 “Observer,” P.68 “Observer 2,” and P.68TC “Observer” airplanes, all serial numbers. The MCAI states:

Occurrences were reported of failures of the upper rudder hinge on P.68 aeroplanes due to corrosion, which can occur if the aeroplane is operated in an environment which may favour the formation of corrosion.

This condition, if not detected and corrected, could interfere with rudder movement and ultimately lead to failure, possibly resulting in loss of control of the aeroplane.

To address this potential unsafe condition, Vulcanair issued the SL [Vulcanair Aircraft Alert Service Letter No. 23, Revision 2, dated September 29, 2021] and updated the applicable AMM [Aircraft Maintenance Manual], as defined in this [EASA] AD, to provide inspection instructions.

For the reason described above, this [EASA] AD requires repetitive inspections of the upper and lower rudder hinges and, depending on findings, accomplishment of applicable corrective action(s).

You may examine the MCAI in the AD docket at https://www.regulations.gov by searching for and locating Docket No. FAA-2022-0813.

Related Service Information Under 1 CFR Part 51

The FAA reviewed Vulcanair Aircraft Alert Service Letter No. 23, Revision 2, dated September 29, 2021, which specifies procedures for inspecting the upper and lower rudder hinges for corrosion, cracking, and damage, and specifies contacting Vulcanair for instructions to repair an affected rudder hinge. This service information also refers to the applicable aircraft maintenance manuals for additional inspection procedures.

The FAA also reviewed the following service information, which specifies procedures for maintaining various structural parts. These documents are distinct since they apply to different airplane models.

• Section 6, Structures, of the Vulcanair Aircraft P.68C & P.68C-TC Maintenance Manual, AMM10.702-1, Revision 7, dated May 11, 2021.

• Section 6, Structures, of the Vulcanair Aircraft P.68 Observer 2 & P.68TC Observer Maintenance Manual, AMM10.702-2, Revision 8, dated November 11, 2021.

• Section 6, Structures, of the Vulcanair Aircraft P.68R Maintenance Manual, AMM10.702-3, Revision 12, dated December 12, 2019.

• Section C, Airframe, of the Vulcanair Aircraft P68C Maintenance Manual, NOR10.709-1B, Revision 9, dated August 30, 2017.

• Section C, Airframe, of the Vulcanair Aircraft P68-TC Observer Maintenance Manual, NOR10.709-4A, Revision 4, dated March 15, 2018.

• Section B, Structure, of the Vulcanair Aircraft A/C P68B Victor Maintenance Manual, NOR.10.709-9, Revision 16, dated September 22, 2017.

• Section C, Airframe, of the Vulcanair Aircraft P68 Observer 2 Maintenance Manual, NOR10.709-10, Revision 5, dated October 23, 2017.

This service information is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and service information referenced above. The FAA is issuing this NPRM after determining the unsafe condition described previously is likely to exist or develop on other products of the same type design.

Proposed AD Requirements in This NPRM

This proposed AD would require accomplishing the actions specified in the service information already described, except as discussed under “Differences Between this Proposed AD and the MCAI.”

Differences Between This Proposed AD and the MCAI

The MCAI applies to Model P.68 “Victor,” P.68B “Victor,” and P.68R “Victor” airplanes, which are identified on the FAA type certificate as Model P.68, P.68B, and P.68R airplanes, respectively.

The MCAI requires contacting Vulcanair for approved repair instructions, while this proposed AD does not.

Costs of Compliance

The FAA estimates that this AD, if adopted as proposed, would affect 14 airplanes of U.S. registry.

The FAA estimates the following costs to comply with this proposed AD:

Estimated Costs
Action | Labor cost | Parts cost | Cost per airplane | Cost on U.S. operators
Visual inspection of upper and lower rudder hinges | 2 work-hours × $85 per hour = $170 | Not applicable | $170 per inspection cycle | $2,380 per inspection cycle.
Disassembly for dye inspection of the top rudder hinge (bracket) | 7 work-hours × $85 per hour = $595 | Not applicable | $595 per inspection cycle | $8,330 per inspection cycle.
Disassembly for dye inspection for the lower rudder hinge (control tube) | 8 work-hours × $85 per hour = $680 | Not applicable | $680 per inspection cycle | $9,520 per inspection cycle.
Dye inspection of upper and lower rudder hinges (post disassembly) | 2 work-hours × $85 per hour = $170 | Not applicable | $170 per inspection cycle | $2,380 per inspection cycle.

The FAA estimates the following costs to do any necessary actions that would be required based on the results of the proposed inspection. The FAA has no way of determining the number of airplanes that might need these actions.

On-Condition Costs
Action | Labor cost | Parts cost | Cost per airplane
Replacement of the top rudder hinge (bracket) | 7 work-hours × $85 per hour = $595 | $320 | $915
Replacement of the lower rudder hinge (control tube) | 8 work-hours × $85 per hour = $680 | 1,020 | 1,700

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not be a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Vulcanair S.p.A.: Docket No. FAA-2022-0813; Project Identifier MCAI-2021-01316-A.

(a) Comments Due Date

The FAA must receive comments on this airworthiness directive (AD) by August 22, 2022.

(b) Affected ADs

None.

(c) Applicability

This AD applies to Vulcanair S.p.A. Model P.68, P.68B, P.68C, P.68C-TC, P.68 “Observer,” P.68TC “Observer,” P.68 “Observer 2,” and P.68R airplanes, all serial numbers (S/Ns), certificated in any category.

(d) Subject

Joint Aircraft System Component (JASC) Code 5540, Rudder Structure.

(e) Unsafe Condition

This AD was prompted by mandatory continuing airworthiness information (MCAI) originated by an aviation authority of another country to identify and correct an unsafe condition on an aviation product. The MCAI identifies the unsafe condition as corrosion causing failure of the upper rudder hinge. The FAA is issuing this AD to address damage of the upper and lower rudder hinges. This condition, if not addressed, could result in interference with the rudder movement and lead to failure of the rudder, which could result in loss of control of the airplane.

(f) Compliance

Comply with this AD within the compliance times specified, unless already done.

(g) Required Actions

Within 200 hours time-in-service (TIS) after the effective date of this AD or within 12 months after the effective date of this AD, whichever occurs first, and thereafter at intervals not to exceed 200 hours TIS or 12 months, whichever occurs first, inspect the upper and lower rudder hinges for looseness, corrosion, cracking, and damage in accordance with steps 1 through 4 of Vulcanair Aircraft Alert Service Letter No. 23, Revision 2, dated September 29, 2021 (Vulcanair SL No. 23R2).

(1) If there is no looseness, no corrosion, no cracking, and no damage, do the actions in paragraphs (g)(1)(i) and (ii) of this AD.

(i) Remove the rudder by following the removal procedure for your airplane identified in figure 1 to paragraph (g)(1) of this AD.

(ii) Perform a dye penetrant inspection of the hinges, paying particular attention to the pivot/attachment holes, using a dye penetrant solution for manual non-destructive testing using the following:

(A) Penetrant System: TYPE II (Visible Dye);

(B) METHOD C (Solvent Removable);

(C) Developer: FORM D (Non-aqueous); or

(D) Solvent Remover: CLASS 1 (Halogenated).

BILLING CODE 4910-13-P

(2) If there is any looseness, corrosion, cracking, or damage, replace the hinge before further flight.

(h) Special Flight Permit

Special flight permits are prohibited.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD and email to: 9-AVS-AIR-730-AMOC@faa.gov.

(2) Before using any approved AMOC, notify your appropriate principal inspector, or lacking a principal inspector, the manager of the local flight standards district office/certificate holding district office.

(j) Related Information

(1) For more information about this AD, contact John DeLuca, Aviation Safety Engineer, General Aviation & Rotorcraft Section, International Validation Branch, FAA, 1600 Stewart Avenue, Suite 410, Westbury, NY 11590; phone: (516) 228-7369; email: john.p.deluca@faa.gov.

(2) Refer to European Union Aviation Safety Agency (EASA) AD 2021-0267, dated November 24, 2021, for more information. You may view the EASA AD at https://www.regulations.gov in Docket No. FAA-2022-0813.

(3) For service information identified in this AD, contact Vulcanair S.p.A., Fulvio Oloferni, via Giovanni Pascoli, 7, 80026 Naples, Italy; phone: +39 081 5918 135; email: airworthiness@vulcanair.com; website: https://www.vulcanair.com. You may review this referenced service information at the FAA, Airworthiness Products Section, Operational Safety Branch, 901 Locust, Kansas City, MO 64106. For information on the availability of this material at the FAA, call (817) 222-5110.

Issued on June 30, 2022.
Christina Underwood,
Acting Director, Compliance & Airworthiness Division, Aircraft Certification Service.

[FR Doc. 2022-14428 Filed 7-7-22; 8:45 am]

BILLING CODE 4910-13-C